DEPARTMENT OF JUSTICE

Notice of Lodging of Proposed Consent Decree Under the Clean Air Act

On February 26, 2016, the Department of Justice lodged a proposed consent decree with the United States District Court for the Northern District of California in the lawsuit entitled United States and North Coast Unified Air Quality Management District v. Blue Lake Power, LLC, Civil Action No. 3:16-cv-00961.

The United States and the North Coast Unified Air Quality Management District (“District”) filed this lawsuit under the Clean Air Act. The complaint seeks injunctive relief and civil penalties for violations of the Clean Air Act's Prevention of Significant Deterioration provisions, 42 U.S.C. 7470-92, and the North Coast Unified Air Quality Management District Rules at Defendant Blue Lake Power, LLC's biomass-fired electric generating plant in Blue Lake, California. Specifically, the complaint alleges that, when defendant restarted the plant in 2010, it failed to obtain appropriate permits and failed to install and operate required pollution control devices to reduce emissions of carbon monoxide (CO), oxides of nitrogen (NOX), and/or particulate matter with a diameter of 10 microns (PM10) at its facility.

The proposed consent decree requires the defendant to perform injunctive relief and pay a $5,000 civil penalty to be shared between the United States and the District. The defendant is required to install and operate pollution control equipment at its facility, meet emission limitations for CO, NOX, and PM10, and adopt operational procedures to reduce additional emissions of particulate matter from the facility. In addition, Blue Lake Power will contribute $10,000 to the District's wood stove replacement program in order to mitigate the adverse effects of past particulate matter emissions from the facility.

The publication of this notice opens a period for public comment on the proposed consent decree. Comments should be addressed to the Assistant Attorney General, Environment and Natural Resources Division, and should refer to United States and North Coast Unified Air Quality Management District v. Blue Lake Power LLC, D.J. Ref. No. 90-5-2-1-11038. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $11.25 (25 cents per page reproduction cost) payable to the United States Treasury.

Henry S. Friedman,
Assistant Section Chief, Environmental Enforcement Section, Environment and Natural Resources Division.

[FR Doc. 2016-04721 Filed 3-3-16; 8:45 am]

BILLING CODE 4410-15-P